DEPARTMENT OF ENERGY

[Docket Nos. FE C&E 00-06, C&E 00-07, C&E 00-08, C&E 00-09 and C&E 00-10; Certification Notice—186]

Office of Fossil Energy; Notice of Filings of Coal Capability of Gateway Power Project, L.P., Rio Nogales Power Project, L.P., Conectiv Energy, Inc., AES Londonderry, LLC and Calpine Construction Finance Co., L.P. Powerplant and Industrial Fuel Use Act

AGENCY: Office of Fossil Energy, Department of Energy.

ACTION: Notice of filing.

SUMMARY: Gateway Power Project, L.P., Rio Nogales Power Project, L.P., Conectiv Energy, Inc., AES Londonderry, LLC and Calpine Construction Finance Company, L.P. submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW, Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in acccordance with section 201(d).

Owner: Gateway Power Project, L.P. (C&E 00-06).

Operator: Gateway Power Project, L.P.

Location: Gilmer, TX.

Plant Configuration: Combined-cycle.

Capacity: 800 MW.

Fuel: Natural gas.

Purchasing Entities: Utilities and power marketers in Texas and surrounding states.

In-Service Date: September 1, 2002

Owner: Rio Nogales Power Project, L.P. (C&E 00-07).

Operator: Rio Nogales Power Project, L.P.

Location: Seguin, TX.

Plant Configuration: Combined-cycle.

Capacity: 800 MW.

Fuel: Natural gas.

Purchasing Entities: Utilities and power marketers in Texas.

In-Service Date: June 1, 2002.

Owner: Conectiv Energy, Inc. (C&E 00-08).

Operator: Conectiv Energy, Inc.

Location: Wilmington, DE.

Plant Configuration: Combined-cycle.

Capacity: 550 MW.

Fuel: Natural gas.

Purchasing Entities: Various entities interconnected in the PJM Power Pool, including Conectiv Power Delivery.

In-Service Date: May 2001.

Owner: AES Londonderry, L.L.C. (C&E 00-09).

Operator: AES Londonderry, L.L.C.

Location: Town of Londonderry, County of Rockingham, NH.

Plant Configuration: Combined-cycle.

Capacity: 724 MW.

Fuel: Natural gas.

Purchasing Entities: Wholesale power purchasers and into the spot markets administered by ISO New England.

In-Service Date: June 2002.

Owner: Calpine Construction Finance Company, L.P. (C&E 00-10).

Operator: Calpine/GenTex Lost Pines Operations, L.P.

Location: Bastrop County, Texas.

Plant Configuration: Combined-cycle.

Capacity: 500 MW.

Fuel: Natural gas.

Purchasing Entities: Electric output sold on a “merchant” basis under power purchase agreements to be negotiated.

In-Service Date: June 1, 2001.

Issued in Washington, DC, April 26, 2000.
Anthony J. Como,
Deputy Director, Electric Power Regulation, Office of Coal & Power Im/Ex, Office of Coal & Power Systems, Office of Fossil Energy.

[FR Doc. 00-11248 Filed 5-4-00; 8:45 am]

BILLING CODE 6450-01-P